DEPARTMENT OF AGRICULTURE

Submission for OMB Review; Comment Request

May 20, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 24, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: WIC Farmers' Market Nutrition Program (FMNP) Forms and Regulations.

OMB Control Number: 0584-0447.

Summary of Collection: The Farmers' Market Nutrition Program (FMNP) is associated with the Special Supplemental Nutrition Program for Women, Infants, and Children (WIC) and was established by Congress in 1992. The FMNP is authorized by Section 17(m) of the Child Nutrition Act of 1966 (42 U.S.C. 1786(m)), as amended. The FMNP was established to provide fresh, nutritious, unprepared locally grown fruits and vegetables from farmers' markets and roadside stands to WIC participants; to expand the awareness and use of farmers' markets; and to increase sales at such markets. Women, infants (over 4 months old) and children that have been certified to receive WIC Program benefits or who are on a waiting list for WIC certification are eligible to participate in the WIC FMNP. The Food and Nutrition Service (FNS) will collect information from each state that receives a grant under the FMNP program in conjunction with the preparation of annual financial and recipient reports.

Need and Use of the Information: The respondents to this information collection are FMNP State and local agencies (including Indian Tribal Organizations, District of Columbia, and Territories), participants, local agencies that are for-profit or non-profit businesses, and FMNP authorized outlets (farmers, farmers' markets, and roadside stands). The State and local agencies collect and maintain information related to program operation and administration, while the participants and FMNP authorized outlets provide the eligibility information needed to participate in the program. Some of the information requirements in this collection are mandatory, while others are required to obtain or retain a benefit. FNS uses the information to assess how each FMNP State agency operates; to ensure the accountability of State agencies, local agencies, and farmers/farmers' markets/roadside stands; to make program management decisions; and to report to Congress as needed.

Description of Respondents: State, Local, or Tribal Government; Individuals or Households; Business or other-for-profit; Not-for-profit institutions; and Farms.

Number of Respondents: 1,581,402.

Frequency of Responses: Recordkeeping; Reporting: Annually; Semi-annually; Quarterly; and Other (every one to three years).

Total Burden Hours: 1,640,907.

Ruth Brown,
Departmental Information Collection Clearance Officer.

[FR Doc. 2021-11012 Filed 5-24-21; 8:45 am]

BILLING CODE 3410-30-P